DEPARTMENT OF TRANSPORTATION

Coast Guard

33 CFR Part 117

[CGD07-02-120]

Drawbridge Operation Regulations; Gasparilla Island Causeway Swingbridge, Gulf Intracoastal Waterway, Boca Grande, Charlotte County, FL

AGENCY: Coast Guard, DOT.

ACTION: Notice of temporary deviation from regulations.

SUMMARY: The Commander, Seventh Coast Guard District, has approved a temporary deviation from the regulations governing the operation of the Gasparilla Island Causeway Swingbridge, across the Gulf Intracoastal Waterway, mile 34.3, at Boca Grande, Florida. This deviation allows the bridge to remain in the closed position from 7 p.m. on October 14, 2002, until 7 a.m. on October 15, 2002, and from 7 p.m. on October 15, 2002 until 7 a.m. on October 16, 2002. This temporary deviation is required to allow the bridge owner to safely complete emergency replacement of the bridge couplings.

DATES: This deviation is effective from 7 p.m. on October 14, 2002 until 7 a.m. on October 16, 2002.

ADDRESSES: Material received from the public, as well as documents indicated in this preamble as being available in the docket [CGD07-02-120] will become part of this docket and will be available for inspection or copying at Commander (obr), Seventh Coast Guard District, 909 S.E. 1st Avenue, Room 432, Miami, FL 33131 between 7:30 a.m. and 4 p.m., Monday through Friday, except Federal holidays.

FOR FURTHER INFORMATION CONTACT: Mr. Barry Dragon, Project Officer, Seventh Coast Guard District, Bridge Section at (305) 415-6743.

SUPPLEMENTARY INFORMATION: The existing regulations for the Gasparilla Island Causeway Swingbridge in 33 CFR 117.287(a-1), requires the swingbridge to open on signal; except that from January 1 to May 31, from 7 a.m. to 5 p.m., the draw need open only on the hour, quarter hour, half hour, and three quarter hour.

The Gasparilla Island Bridge Authority notified the Coast Guard on September 13, 2002 that they needed to close the bridge to vessel traffic for two twelve hour periods to effect emergency replacement of the couplings. The Commander, Seventh Coast Guard District has granted a temporary deviation from the operating requirements listed in 33 CFR 117.287(a-1) to complete repairs to the swingbridge. Under this deviation, the Gasparilla Island Causeway Swingbridge, mile 34.3 at Boca Grande, need not open to vessel traffic, from 7 p.m. on October 14, 2002 until 7 a.m. on October 15, 2002 and from 7 p.m. on October 15, 2002 until 7 a.m. on October 16, 2002.

Dated: September 26, 2002.
Greg Shapley,
Chief, Bridge Administration Branch, Seventh Coast Guard District.

[FR Doc. 02-25190 Filed 10-2-02; 8:45 am]

BILLING CODE 4910-15-P